DEPARTMENT OF COMMERCE

International Trade Administration

[A-570-601]

Tapered Roller Bearings and Parts Thereof, Finished and Unfinished, From the People's Republic of China: Preliminary Results and Intent To Rescind the Review, in Part; 2019-2020

AGENCY: Enforcement and Compliance, International Trade Administration, Department of Commerce.

SUMMARY: The Department of Commerce (Commerce) preliminarily determines that certain companies under review sold tapered roller bearings and parts thereof, finished and unfinished, (TRBs) from the People's Republic of China (China) at less than normal value (NV) during the period of review (POR), June 1, 2019, through May 31, 2020. Additionally, we preliminarily determine that certain companies did not make a bona fide sale of TRBs from China during the POR and preliminary intend to rescind the review with respect to these companies. Interested parties are invited to comment on these preliminary results.

DATES: Applicable July 8, 2021.

FOR FURTHER INFORMATION CONTACT: Alex Wood, AD/CVD Operations, Office II, Enforcement and Compliance, International Trade Administration, U.S. Department of Commerce, 1401 Constitution Avenue NW, Washington, DC 20230; telephone: (202) 482-1959.

SUPPLEMENTARY INFORMATION:

Background

On August 6, 2020, Commerce published a notice of initiation of an administrative review of the antidumping duty (AD) order on TRBs from China covering the period June 1, 2019, through May 31, 2020, with respect to 10 companies.¹ In November 2020, following timely withdrawal of their requests for review, we rescinded the review with respect to four companies.² This review now covers BRTEC Wheel Hub Bearing Co., Ltd. (BRTEC); C&U Group Shanghai Bearing Co., Ltd. (C&U Group); Hebei Xintai Bearing Forging Co., Ltd. (Hebei Xintai); Shanghai Tainai Bearing Co., Ltd., (Tainai); Xinchang Newsun Xintianlong Precision Bearing Manufacturing Co., Ltd. (XTL); and Zhejiang Jingli Bearing Technology Co. Ltd. (Jingli).

¹ See Initiation of Antidumping and Countervailing Duty Reviews, 85 FR 47731 (August 6, 2020) (Initiation Notice); see also Initiation of Antidumping and Countervailing Duty Administrative Reviews, 85 FR 54983, 54990 (September 3, 2020) (Initiation Notice Correction), correcting the Initiation Notice.

² See Tapered Roller Bearings and Parts Thereof, Finished and Unfinished, from the People's Republic of China: Rescission, in Part, of Antidumping Duty Administrative Review; 2019-2020, 85 FR 76527 (November 30, 2020).

For a complete description of the events that followed the initiation of this administrative review, see the Preliminary Decision Memorandum.³ A list of topics discussed in the Preliminary Decision Memorandum is included in the appendix to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at http://enforcement.trade.gov/frn/.

³ See Memorandum, “Decision Memorandum for the Preliminary Results of the 2019-2020 Antidumping Duty Administrative Review of Tapered Roller Bearings and Parts Thereof, Finished and Unfinished, from the People's Republic of China,” dated concurrently with, and hereby adopted by, this notice (Preliminary Decision Memorandum).

Scope of the Order

Imports covered by the order are shipments of tapered roller bearings and parts thereof, finished and unfinished, from China; flange, take up cartridge, and hanger units incorporating tapered roller bearings; and tapered roller housings (except pillow blocks) incorporating tapered rollers, with or without spindles, whether or not for automotive use. These products are currently classifiable under Harmonized Tariff Schedule of the United States (HTSUS) subheadings 8482.20.00, 8482.91.00.50, 8482.99.15, 8482.99.45, 8483.20.40, 8483.20.80, 8483.30.80, 8483.90.20, 8483.90.30, 8483.90.80, 8708.70.6060, 8708.99.2300, 8708.99.4850, 8708.99.6890, 8708.99.8115, and 8708.99.8180. Although the HTSUS subheadings are provided for convenience and customs purposes, the written description of the scope of the order is dispositive.

Methodology

Commerce is conducting this review in accordance with section 751(a)(1)(B) of the Tariff Act of 1930, as amended (the Act). For a full description of the methodology underlying our conclusions, see the Preliminary Decision Memorandum.⁴

⁴ See Preliminary Decision Memorandum at “Discussion of the Methodology.”

China-Wide Entity

The C&U Group did not submit a separate rate application; therefore, it has failed to rebut de facto and de jure control by the Government of China. Commerce preliminarily determines that C&U Group is not eligible for a separate rate and is a part of the China-wide entity.

Under Commerce's current policy regarding the conditional review of the China-wide entity, the China-wide entity will not be under review unless a party specifically requests, or Commerce self-initiates, a review of the entity. Because no party requested a review of the China-wide entity in this review, the entity is not under review and the entity's rate is not subject to change (i.e., 92.84 percent).

Preliminary Partial Recession of the AD Administrative Review

As discussed in the Bona Fides Analysis Memoranda,⁵ Commerce preliminarily finds that the sales made by BRTEC and Jingli, which serve as the basis for our review of these companies, are not bona fide sales. Commerce reached this conclusion based on the totality of the circumstances surrounding the reported sales. Further, given that the factual information used in our bona fides analysis of BRTEC's and Jingli's sales involves business proprietary information, see the Bona Fides Memoranda for a full discussion of the basis for our preliminary findings.

⁵ See Memorandum, “Analysis of the Bona Fides of BRTEC Wheel Hub Bearing Co., Ltd.'s Sale,” dated concurrently with, and hereby adopted by, this notice; and Memorandum, “Analysis of the Bona Fides of Zhejiang Jingli Bearing Technology Co. Ltd.'s Sale,” dated concurrently with, and hereby adopted by, this notice (collectively, Bona Fides Memoranda).

Rate for Non-Examined Companies That Are Eligible for a Separate Rate

Commerce calculated an individual estimated weighted-average dumping margin for Tainai, the only individually examined exporter/producer in this investigation. Because the only individually calculated weighted-average dumping margin is not zero, de minimis, or based entirely on facts otherwise available, the weighted-average dumping margin calculated for Tainai is the basis to determine the weighted-average dumping margin for the separate rate, non-examined companies, consistent with section 735(c)(5)(A) of the Act which provides for the determination of the estimated weighted-average dumping margin for all other producers and exporters in an investigation.

As indicated in the “Preliminary Results of Review” section below, we preliminarily determine that a weighted-average dumping margin of 36.75 percent applies to the two companies not selected for individual examination which are eligible for a separate rate (i.e., Hebei Xintai and XTL). For further information, see the Preliminary Decision Memorandum at “Weighted-Average Dumping Margin for the Separate Rate Companies.”

Preliminary Results of Review

Commerce preliminarily determines that the following weighted-average dumping margins exist for the period June 1, 2019, through May 31, 2020:

Exporter | Weighted- average dumping margin (percent)
Shanghai Tainai Bearing Co., Ltd | 36.75
Hebei Xintai Bearing Forging Co., Ltd | 36.75
Xinchang Newsun Xintianlong Precision Bearing Manufacturing Co., Ltd | 36.75

Disclosure

Commerce will disclose calculations performed for these preliminary results to the parties within five days of the date of publication of this notice in accordance with 19 CFR 351.224(b).

Public Comment

Case briefs or other written comments may be submitted to the Assistant Secretary for Enforcement and Compliance. Interested parties will be notified of the deadlines for the submission of case briefs and written comments at a later date. Rebuttal briefs, limited to issues raised in case briefs, may be submitted no later than seven days after the deadline date for case briefs.⁶ Pursuant to 19 CFR 351.309(c)(2) and (d)(2), parties who submit case briefs or rebuttal briefs in this administrative review are encouraged to submit with each argument: (1) A statement of the issue; (2) a brief summary of the argument; and (3) a table of authorities.

⁶ See 19 CFR 351.309; see also 19 CFR 351.303 (for general filing requirements).

Pursuant to 19 CFR 351.310(c), interested parties who wish to request a hearing, limited to issues raised in the case and rebuttal briefs, must submit a written request to the Assistant Secretary for Enforcement and Compliance, U.S. Department of Commerce, within 30 days after the date of publication of this notice. Requests should contain the party's name, address, and telephone number, the number of participants, and a list of the issues to be discussed. Oral presentations at the hearing will be limited to issues raised in the briefs. If a request for a hearing is made, parties will be notified of the time and date for the hearing.⁷

⁷ See 19 CFR 351.310(d).

All submissions must be filed electronically using ACCESS. An electronically filed document must be received successfully in its entirety by 5:00 p.m. Eastern Time on the established due date. Note that Commerce has temporarily modified certain of its requirements for serving documents containing business proprietary information, until further notice.⁸

⁸ See Temporary Rule Modifying AD/CVD Service Requirements Due to COVID-19, 85 FR 17006 (March 26, 2020); and Temporary Rule Modifying AD/CVD Service Requirements Due to COVID-19; Extension of Effective Period, 85 FR 41363 (July 10, 2020).

Unless otherwise extended, Commerce intends to issue the final results of this administrative review, which will include the results of its analysis of all issues raised in the case briefs, within 120 days after the date of these preliminary results, pursuant to section 751(a)(3)(A) of the Act.

Assessment Rates

Upon issuance of the final results of the administrative review, Commerce will determine, and U.S. Customs and Border Protection (CBP) shall assess, antidumping duties on all appropriate entries covered by this review.⁹ Commerce intends to issue assessment instructions to CBP no earlier than 35 days after date of publication of the final results of this review in the Federal Register. If a timely summons is filed at the U.S. Court of International Trade, the assessment instructions will direct CBP not to liquidate relevant entries until the time for parties to file a request for a statutory injunction has expired (i.e., within 90 days of publication).

⁹ See 19 CFR 351.212(b)(1).

For each individually examined respondent in this review whose weighted-average dumping margin in the final results of review is not zero or de minimis (i.e., less than 0.5 percent), Commerce intends to calculate importer-specific assessment rates for antidumping duties, in accordance with 19 CFR 351.212(b)(1).¹⁰ Where the respondent reported reliable entered values, Commerce intends to calculate importer-specific ad valorem assessment rates by aggregating the amount of dumping calculated for all U.S. sales to the importer and dividing this amount by the total entered value of the merchandise sold to the importer.¹¹ Where the respondent did not report entered values, Commerce will calculate importer-specific assessment rates by dividing the amount of dumping for reviewed sales to the importer by the total quantity of those sales. Commerce will calculate an estimated ad valorem importer-specific assessment rate to determine whether the per-unit assessment rate is de minimis; however, Commerce will use the per-unit assessment rate where entered values were not reported.¹² Where an importer-specific ad valorem assessment rate is not zero or de minimis, Commerce will instruct CBP to collect the appropriate duties at the time of liquidation. Where either the respondent's weighted average dumping margin is zero or de minimis, or an importer-specific ad valorem assessment rate is zero or de minimis, Commerce will instruct CBP to liquidate appropriate entries without regard to antidumping duties.¹³

¹⁰ See Antidumping Proceedings: Calculation of the Weighted Average Dumping Margin and Assessment Rate in Certain Antidumping Proceedings: Final Modification, 77 FR 8101 (February 14, 2012) (Final Modification).

¹¹ See 19 CFR 351.212(b)(1).

¹² Id.

¹³ See Final Modification, 77 FR at 8103.

For the final results, if we continue to treat the C&U Group as part of China-wide entity, we will instruct CBP to apply an ad valorem assessment rate of 92.84 percent, the rate previously established for the China-wide entity,¹⁴ to all entries of subject merchandise during the POR that were exported or produced by the C&U Group.

¹⁴ See Tapered Roller Bearings and Parts Thereof, Finished and Unfinished, From the People's Republic of China: Final Results of Antidumping Duty Administrative Review, 74 FR 3987 (January 22, 2009).

For the companies which are receiving a separate rate and which were not individually examined, their assessment rate will be equal to the weighted-average dumping margin determined in the final results of this review.

For BRTEC and Jingli, if the review is rescinded for these two companies, then Commerce will instruct CBP to liquidate, as entered, the entries associated with these two companies. In accordance with section 751(a)(2)(C) of the Act, the final results of this review shall be the basis for the assessment of antidumping duties on entries of merchandise covered by the final results of this review and for future deposits of estimated antidumping duties, where applicable.

Cash Deposit Requirements

The following cash deposit requirements will be effective upon publication of the final results of this administrative review for all shipments of the subject merchandise entered, or withdrawn from warehouse, for consumption on or after the publication date, as provided for by section 751(a)(2)(C) of the Act: (1) For the exporters listed above which have a separate rate the cash deposit rate will be equal to the weighted-average dumping margin established in the final results of this review (except, if the rate is zero or de minimis, then a cash deposit rate of zero will be established for that company); (2) for previously investigated or reviewed Chinese and non-Chinese exporters not listed above that have separate rates, the cash deposit rate will continue to be equal to the exporter-specific weighted-average dumping margin published for the most recently completed segment of this proceeding; (3) for all Chinese exporters of subject merchandise that have not been found to be entitled to a separate rate, the cash deposit rate will be the cash deposit rate established for the China-wide entity, 92.84 percent; and (4) for all exporters of subject merchandise that are not located in China and that are not eligible for a separate rate, the cash deposit rate will be the rate applicable to the Chinese exporter(s) that supplied that non-Chinese exporter. These deposit requirements, when imposed, shall remain in effect until further notice.

Notification to Importers

This notice also serves as a preliminary reminder to importers of their responsibility under 19 CFR 351.402(f) to file a certificate regarding the reimbursement of antidumping duties prior to liquidation of the relevant entries during this review period. Failure to comply with this requirement could result in Commerce's presumption that reimbursement of antidumping duties occurred and the subsequent assessment of double antidumping duties.

Notification to Interested Parties

We are issuing and publishing these preliminary results of review in accordance with sections 751(a)(l), 751(a)(2)(B), and 777(i)(l) of the Act, and 19 CFR 351.221(b)(4).

Dated: June 30, 2021.
Christian Marsh,
Acting Assistant Secretary for Enforcement and Compliance.

Appendix

List of Topics Discussed in the Preliminary Decision Memorandum

I. Summary

II. Background

III. Scope of the Order

IV. Discussion of the Methodology

V. Recommendation

[FR Doc. 2021-14559 Filed 7-7-21; 8:45 am]

BILLING CODE 3510-DS-P